INTERNATIONAL TRADE COMMISSION

[Investigation Nos. 701-TA-593-596 and 731-TA-1401-1406 (Preliminary)]

Large Diameter Welded Pipe From Canada, China, Greece, India, Korea, and Turkey Determinations ¹

¹ Due to the Federal government weather-related closure on March 2, 2018, these investigations conducted under authority of Title VII of the Tariff Act of 1930 have been tolled by one day pursuant to 19 U.S.C. 1671b(a)(2), 1673b(a)(2).

On the basis of the record ² developed in the subject investigations, the United States International Trade Commission (“Commission”) determines, pursuant to the Tariff Act of 1930 (“the Act”), that there is a reasonable indication that an industry in the United States is materially injured by reason of imports of large diameter welded pipe (LDWP) from Canada, China, India, Korea, and Turkey, provided for in statistical reporting numbers 7305.11.10, 7305.11.1060, 7305.11.50, 7305.12.10, 7305.12.10, 7305.12.50, 7305.19.10, 7305.19.10, 7305.19.50, 7305.31.40, 7305.31.60, 7305.39.10, and 7305.39.50 of the Harmonized Tariff Schedule of the United States, that are alleged to be sold in the United States at less than fair value (“LTFV”) and to be subsidized by the governments of China, India, Korea, and Turkey. The Commission also determines, pursuant to the Act, that there is a reasonable indication that an industry in the United States is threatened with material injury by reason of imports from Greece of LDWP that are alleged to be sold in the United States at less than fair value (“LTFV”).

² The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the U.S. Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On January 17, 2018, American Cast Iron Pipe Company, Birmingham, Alabama; Berg Steel Pipe Corp., Panama City, Florida; Berg Spiral Pipe Corp., Mobile, Alabama; Dura-Bond Industries, Inc., Export, Pennsylvania; Skyline Steel, Newington, Virginia; and Stupp Corporation, Baton Rouge, Louisiana filed a petition with the Commission and Commerce, alleging that an industry in the United States is materially injured or threatened with material injury by reason of subsidized imports of LDWP from China, India, Korea, and Turkey and LTFV imports of LDWP from Canada, China, Greece, India, Korea, and Turkey. Accordingly, effective January 17, 2018, the Commission, pursuant to sections 703(a) and 733(a) of the Act (19 U.S.C. 1671b(a) and 1673b(a)), instituted countervailing duty investigation Nos. 701-TA-593-596 and antidumping duty investigation Nos. 731-TA-1401-1406 (Preliminary).

Notice of the institution of the Commission's investigations and of a public conference to be held in connection therewith was given by posting copies of the notice in the Office of the Secretary, U.S. International Trade Commission, Washington, DC, and by publishing the notice in the Federal Register of January 23, 2018 (83 FR 3187). The conference was held in Washington, DC, on February 7, 2018, and all persons who requested the opportunity were permitted to appear in person or by counsel.

The Commission made these determinations pursuant to sections 703(a) and 733(a) of the Act (19 U.S.C. 1671b(a) and 1673b(a)). It completed and filed its determinations in these investigations on March 6, 2018. The views of the Commission are contained in USITC Publication 4768 (March 2018), entitled Large Diameter Welded Pipe from Canada, China, Greece, India, Korea, and Turkey: Investigation Nos. 701-TA-593-596 and 731-TA-1401-1406 (Preliminary).

By order of the Commission.
Issued: March 6, 2018.
Lisa R. Barton,
Secretary to the Commission

[FR Doc. 2018-04848 Filed 3-9-18; 8:45 am]

BILLING CODE 7020-02-P